SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before February 4, 2003.

ADDRESSES: Send all comments regarding whether these information collections are necessary for the proper performance of the function of the agency, whether the burden estimates are accurate, and if there are ways to minimize the estimated burden and enhance the quality of the collections, to Cynthia Pitts, Program Analyst, Office of Disaster Assistance, Small Business Administration, 409 3rd Street, SW., Suite 6050, Washington DC 20416

FOR FURTHER INFORMATION CONTACT: Cynthia Pitts, Program Analyst, (202) 205-7570 or Curtis B. Rich, Management Analyst, (202) 205-7030.

SUPPLEMENTARY INFORMATION: Title: Disaster Home/Business Loan Inquiry Record.

Form No: 700.

Description of Respondents: Victims in Presidential declared disaster.

Annual Responses: 53,478.

Annual Burden: 13,370.

Title: Governor's Request for Disaster Declaration.

Form No: N/A.

Description of Respondents: Victims in Presidential declared disaster.

Annual Responses: 57.

Annual Burden: 1,140.

Jacqueline White,
Chief, Administrative Information Branch.

[FR Doc. 02-30893 Filed 12-5-02; 8:45 am]

BILLING CODE 8025-01-P